DEPARTMENT OF TRANSPORTATION

Federal Aviation Administration

14 CFR Part 39

[Docket No. FAA-2007-0109; Directorate Identifier 2007-NM-235-AD]

RIN 2120-AA64

Airworthiness Directives; Lockheed Model 382, 382B, 382E, 382F, and 382G Series Airplanes

Correction

In proposed rule document 07-5595 beginning on page 64005 in the issue of Wednesday, November 14, 2007, make the following corrections:

1. On page 64006, in the second column, under the “Development of the SSIP” heading, in the eighth line, “easement” should read “reassessment”.

2. On page 64007, in the Estimated Costs table, in the third column, in the second entry, “80” should read “$80”.

§ 39.13 [Corrected]

3. On page 64008, in the first column, in § 39.13(g), in the second line, “incorporte” should read “incorporate”.

[FR Doc. C7-5595 Filed 11-30-07; 8:45 am]

BILLING CODE 1505-01-D